DEPARTMENT OF TRANSPORTATION

Federal Aviation Administration

14 CFR Part 39

[Docket No. FAA-2010-0954; Directorate Identifier 2010-NM-078-AD]

RIN 2120-AA64

Airworthiness Directives; Hawker Beechcraft Corporation (Type Certificate Previously Held by Raytheon Aircraft Company; Beech Aircraft Corporation) Model 400A and 400T Airplanes

AGENCY: Federal Aviation Administration (FAA), DOT.

ACTION: Notice of proposed rulemaking (NPRM).

SUMMARY: We propose to adopt a new airworthiness directive (AD) for certain Model 400A, and 400T airplanes. This proposed AD would require a detailed inspection for proper sealant of the left and right pylon firewall structures, and corrective actions if necessary. This proposed AD results from reports of missing sealant on the left and right pylon firewall structures. We are proposing this AD to detect and correct missing sealant on the left and right pylon firewall structures, which, in the event of an engine fire, could result in flames penetrating the seams in the firewall between the engine and the aft fuselage, and a subsequent uncontrolled fire in the aft fuselage.

DATES: We must receive comments on this proposed AD by November 15, 2010.

ADDRESSES: You may send comments by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

For service information identified in this proposed AD, contact Hawker Beechcraft Corporation, Department 62, P.O. Box 85, Wichita, Kansas 67201-0085; telephone 316-676-8238; fax 316-676-6706; e-mail tmdc@hawkerbeechcraft.com; Internet https://www.hawkerbeechcraft.com/service_support/pubs. You may review copies of the referenced service information at the FAA, Transport Airplane Directorate, 1601 Lind Avenue, SW., Renton, Washington. For information on the availability of this material at the FAA, call 425-227-1221.

Examining the AD Docket

You may examine the AD docket on the Internet at http://www.regulations.gov; or in person at the Docket Management Facility between 9 a.m. and 5 p.m., Monday through Friday, except Federal holidays. The AD docket contains this proposed AD, the regulatory evaluation, any comments received, and other information. The street address for the Docket Office (telephone 800-647-5527) is in the ADDRESSES section. Comments will be available in the AD docket shortly after receipt.

FOR FURTHER INFORMATION CONTACT: Thomas Teplik, Aerospace Engineer, Systems and Propulsion Branch, ACE-116W, FAA, Wichita Aircraft Certification Office (ACO), 1801 Airport Road, Room 100, Mid-Continent Airport, Wichita, Kansas 67209; telephone (316) 946-4196; fax (316) 946-4107.

SUPPLEMENTARY INFORMATION:

Comments Invited

We invite you to send any written relevant data, views, or arguments about this proposed AD. Send your comments to an address listed under the ADDRESSES section. Include “Docket No. FAA-2010-0954; Directorate Identifier 2010-NM-078-AD” at the beginning of your comments. We specifically invite comments on the overall regulatory, economic, environmental, and energy aspects of this proposed AD. We will consider all comments received by the closing date and may amend this proposed AD because of those comments.

We will post all comments we receive, without change, to http://www.regulations.gov, including any personal information you provide. We will also post a report summarizing each substantive verbal contact we receive about this proposed AD.

Discussion

We have received reports of missing sealant on the left and right pylon firewall structures. The sealant may not have been applied on the firewall at the seams in production. Pylon firewall structures that do not have this sealant do not meet the applicable design intent. In the event of an engine fire, flames could penetrate the seams in the firewall between the engine and the aft fuselage. Missing or inadequate sealant, if not corrected, combined with the event of an engine fire could result in an uncontrolled fire in the aft fuselage.

Relevant Service Information

We have reviewed Hawker Beechcraft Mandatory Service Bulletin SB 54-3946, Revision 2, dated February 2010. This service bulletin describes procedures for doing an inspection of the left and right pylon for coverage of firewall sealant on the seams, and corrective actions. While Hawker Beechcraft Mandatory Service Bulletin SB 54-3946, Revision 1, dated May 2009, provides the procedures for doing the inspection of the left and right pylon for coverage of firewall sealant on the seams and applying sealant, it does not specify the dimensions of the sealant. Corrective actions include cleaning, sealing, or recoating affected areas; and recoating sealant. Figure 4 of Hawker Beechcraft Mandatory Service Bulletin SB 54-3946, Revision 2, dated February 2010, contains the specifications of the sealant depth.

FAA's Determination and Requirements of This Proposed AD

We are proposing this AD because we evaluated all relevant information and determined the unsafe condition described previously is likely to exist or develop in other products of these same type designs. This proposed AD would require accomplishing the actions specified in the service information described previously, except as discussed under “Differences Between the Proposed AD and Service Information.”

Differences Between the Proposed AD and Service Information

Hawker Beechcraft Mandatory Service Bulletin SB 54-3946, Revision 2, dated February 2010, specifies a compliance time of the next scheduled inspection, but no later than 12 months after the date of the service bulletin revision. This proposed AD would require a compliance time of within 200 flight hours or within 12 months after the effective date of this AD, whichever occurs first. The service bulletin also does not specify what type of inspection to perform. This AD requires that a detailed inspection be performed.

Costs of Compliance

We estimate that this proposed AD would affect 165 airplanes of U.S. registry. We also estimate that it would take about 1 work-hour per product to comply with this proposed AD. The average labor rate is $85 per work-hour. Based on these figures, we estimate the cost of this proposed AD to the U.S. operators to be $14,025, or $85 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866,

2. Is not a “significant rule” under the DOT Regulatory Policies and Procedures (44 FR 11034, February 26, 1979), and

3. Will not have a significant economic impact, positive or negative, on a substantial number of small entities under the criteria of the Regulatory Flexibility Act.

You can find our regulatory evaluation and the estimated costs of compliance in the AD Docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

Hawker Beechcraft Corporation (Type Certificate Previously Held by Raytheon Aircraft Company; Beech Aircraft Corporation): Docket No. FAA-2010-0954; Directorate Identifier 2010-NM-078-AD.

Comments Due Date

(a) We must receive comments by November 15, 2010.

Affected ADs

(b) None.

Applicability

(c) This AD applies to Hawker Beechcraft Corporation (Type Certificate previously held by Raytheon Aircraft Company; Beech Aircraft Corporation), certificated in any category; as identified in paragraphs (c)(1) and (c)(2) of this AD.

(1) Model 400A airplanes having serial numbers RK-337 through RK-484, RK-486 through RK-570 inclusive, RK-572, RK-573, and RK-575 through RK-577 inclusive.

(2) Model 400T airplane having serial number TX-13.

Subject

(d) Air Transport Association (ATA) of America Code 54: Nacelles/Pylons.

Unsafe Condition

(e) This AD results from reports of missing sealant on the left and right pylon firewall structures. The Federal Aviation Administration is issuing this AD to detect and correct missing sealant on the left and right pylon firewall structures, which, in the event of an engine fire, could result in flames penetrating the seams in the firewall between the engine and the aft fuselage, and a subsequent uncontrolled fire in the aft fuselage.

Compliance

(f) You are responsible for having the actions required by this AD performed within the compliance times specified, unless the actions have already been done.

Inspection and Corrective Action

(g) Within 200 flight hours or 12 months after the effective date of this AD, whichever occurs first: Do a detailed inspection for appropriate coverage of firewall sealant of the left and right pylon firewall structure, as specified in the figures of Hawker Beechcraft Mandatory Service Bulletin SB 54-3946, Revision 2, dated February 2010, and all applicable corrective actions; in accordance with the Accomplishment Instructions of Hawker Beechcraft Mandatory Service Bulletin SB 54-3946, Revision 2, dated February 2010. Do all applicable corrective actions before further flight.

Note 1: For the purposes of this AD, a detailed inspection is: “An intensive examination of a specific item, installation, or assembly to detect damage, failure, or irregularity. Available lighting is normally supplemented with a direct source of good lighting at an intensity deemed appropriate. Inspection aids such as mirror, magnifying lenses, etc., may be necessary. Surface cleaning and elaborate procedures may be required.”

Alternative Methods of Compliance (AMOCs)

(h)(1) The Manager, Wichita Aircraft Certification Office (ACO), FAA, has the authority to approve AMOCs for this AD, if requested using the procedures found in 14 CFR 39.19. Send information to ATTN: Thomas Teplik, Aerospace Engineer, Systems and Propulsion Branch, ACE-116W, FAA, Wichita Aircraft Certification Office (ACO), 1801 Airport Road, Room 100, Mid-Continent Airport, Wichita, Kansas 67209; telephone (316) 946-4196; fax (316) 946-4107.

(2) To request a different method of compliance or a different compliance time for this AD, follow the procedures in 14 CFR 39.19. Before using any approved AMOC on any airplane to which the AMOC applies, notify your principal maintenance inspector (PMI) or principal avionics inspector (PAI), as appropriate, or lacking a principal inspector, your local Flight Standards District Office. The AMOC approval letter must specifically reference this AD.

Issued in Renton, Washington, on September 23, 2010.
Ali Bahrami,
Manager, Transport Airplane Directorate, Aircraft Certification Service.

[FR Doc. 2010-24714 Filed 9-30-10; 8:45 am]

BILLING CODE 4910-13-P